DEPARTMENT OF HEALTH AND HUMAN SERVICES

Centers for Medicare & Medicaid Services

42 CFR Parts 420, 424, 489, and 498

[CMS-6002-F2]

RIN-0938-AH73

Medicare Program; Requirements for Providers and Suppliers To Establish and Maintain Medicare Enrollment; Correcting Amendment

AGENCY: Centers for Medicare & Medicaid Services (CMS), HHS.

ACTION: Final rule; correcting amendment.

SUMMARY: This correcting amendment corrects a technical error identified in the final rule that appeared in the April 21, 2006 Federal Register entitled “Requirements for Providers and Suppliers to Establish and Maintain Medicare Enrollment.” In that final rule, we require all providers and suppliers (other than physicians or practitioners who have elected to “opt-out” of the Medicare program) to: (1) Complete an enrollment form and submit specific information to us; and (2) periodically update and certify the accuracy of their enrollment information to receive and maintain billing privileges in the Medicare program. The final rule also implements statutory provisions requiring us to ensure that all Medicare providers and suppliers are qualified to provide the appropriate health care services. The effective date of the final rule was June 20, 2006.

DATES: Effective Date: This correcting amendment is effective on July 31, 2006.

FOR FURTHER INFORMATION CONTACT: Michael C. Collett, (410) 786-6121.

SUPPLEMENTARY INFORMATION:

I. Background and Summary of Error

In FR Doc. 06-3722 (71 FR 20754), the final rule entitled “Requirements for Providers and Suppliers to Establish and Maintain Medicare Enrollment” (hereinafter referred to the April 21, 2006 final rule), there was a technical error that is identified and corrected in the regulations text of this correcting amendment. The provisions of this correcting amendment are effective on July 31, 2006.

On page 20781 of the April 21, 2006 final rule, we made a technical error in the regulation text of § 498.3(b)(17). In this paragraph, we inadvertently omitted qualifying language related to our authority to deny, in addition to revoke, a provider or supplier's Medicare enrollment. Accordingly, we are revising § 498.3(b)(17) to accurately reflect our authority to deny or revoke a provider or supplier's Medicare enrollment. Therefore, on page 20781 third column, lines 44 through 46, the paragraph “The revocation of a provider or supplier's Medicare enrollment in accordance to § 424.535 of this chapter” would be corrected to read “Whether to deny or revoke a provider or supplier's Medicare enrollment in accordance with § 424.530 or § 424.535 of this chapter.”

II. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Our policy on the requirements for providers and suppliers to establish and maintain Medicare enrollment in the April 21, 2006 final rule has previously been subjected to notice and comment procedures. This correction is consistent with the discussion of this policy in the April 21, 2006 final rule and does not make a substantive change to this policy. This correcting amendment merely corrects a technical error in the regulations text of the April 21, 2006 final rule. As a result, this correcting amendment is intended to ensure that the April 21, 2006 final rule accurately reflects the policy adopted in this final rule and does not contradict policy found at § 424.530, which did not receive any comments during the original comment period. Therefore, we find that undertaking further notice and comment procedures to incorporate these corrections into the final rule is unnecessary.

III. Correction of Errors

Given the error summarized in section I. of the correcting amendment, we are making the following correcting amendment to 42 CFR part 498:

PART 498—APPEALS PROCEDURES FOR DETERMINATIONS THAT AFFECT PARTICIPATION IN THE MEDICARE PROGRAM AND FOR DETERMINATIONS THAT AFFECT THE PARTICIPATION OF ICFs/MR AND CERTAIN NFs IN THE MEDICAID PROGRAM

Section 498.3 is amended by revising paragraph (b)(17) to read as follows:

§ 498.3 [Corrected]

* * * * *

(b) * * *

(17) Whether to deny or revoke a provider or supplier's Medicare enrollment in accordance with § 424.530 or § 424.535 of this chapter.

* * * * *

(Catalog of Federal Domestic Assistance Program No. 93.773, Medicare—Hospital Insurance; and Program No. 93.774, Medicare—Supplementary Medical Insurance Program)

Dated: June 27, 2006.
Ann Agnew,
Executive Secretary to the Department.

[FR Doc. E6-10290 Filed 6-29-06; 8:45 am]

BILLING CODE 4120-01-P